DEPARTMENT OF ENERGY

Federal Energy Regulatory Commission

Combined Notice of Filings

June 4, 2009.

Take notice that the Commission has received the following Natural Gas Pipeline Rate and Refund Report filings:

Docket Numbers: RP09-683-000.

Applicants: Caledonia Energy Partners, LLC.

Description: Caledonia Energy Partners, LLC submits First Revised Sheet No 55 et al. to its FERC Gas Tariff, Original Volume No. 1 to be effective 8/1/09.

Filed Date: 06/01/2009.

Accession Number: 20090603-0032.

Comment Date: 5 p.m. Eastern Time on Monday, June 15, 2009.

Docket Numbers: RP09-684-000.

Applicants: Gas Transmission Northwest Corporation.

Description: Gas Transmission Northwest Corporation submits Fourth Revised Sheet 101 et al. to its FERC Gas Tariff, Third Revised Volume 1-A, to be effective 8/1/09.

Filed Date: 06/01/2009.

Accession Number: 20090603-0039.

Comment Date: 5 p.m. Eastern Time on Monday, June 15, 2009.

Docket Numbers: RP09-685-000.

Applicants: Eastern Shore Natural Gas Company.

Description: Eastern Shore Natural Gas Company submits Second Revised Sheet 91 et al. to its FERC Gas Tariff, Second Revised Volume 1 to be effective 8/1/09.

Filed Date: 06/01/2009.

Accession Number: 20090603-0033.

Comment Date: 5 p.m. Eastern Time on Monday, June 15, 2009.

Docket Numbers: RP09-686-000.

Applicants: Portland Natural Gas Transmission System.

Description: Portland Natural Gas Transmission System submits First Revised Sheet 323 et al. to its FERC Gas Tariff, Second Revised Volume 1 to be effective 8/1/09.

Filed Date: 06/01/2009.

Accession Number: 20090603-0040.

Comment Date: 5 p.m. Eastern Time on Monday, June 15, 2009.

Docket Numbers: RP09-687-000.

Applicants: Equitrans, L.P.

Description: Equitrans, L.P. submits Second Revised Sheet 286 et al. to its FERC Gas Tariff, Original Volume 1 to be effective 8/1/09.

Filed Date: 06/01/2009.

Accession Number: 20090603-0034.

Comment Date: 5 p.m. Eastern Time on Monday, June 15, 2009.

Docket Numbers: RP09-688-000.

Applicants: WestGas InterState, Inc.

Description: WestGas InterState, Inc. submits Eighth Revised Sheet 92 et al. to its FERC Gas Tariff, First Revised Volume 1 to be effective 8/1/09.

Filed Date: 06/01/2009.

Accession Number: 20090603-0035.

Comment Date: 5 p.m. Eastern Time on Monday, June 15, 2009.

Docket Numbers: RP09-689-000.

Applicants: North Baja Pipeline, LLC.

Description: North Baja Pipeline, LLC submits Third Revised Sheet 101 et al. to its FERC Gas Tariff, Original Volume 1 to be effective 8/1/09.

Filed Date: 06/01/2009.

Accession Number: 20090603-0036.

Comment Date: 5 p.m. Eastern Time on Monday, June 15, 2009.

Docket Numbers: RP09-690-000.

Applicants: Trans-Union Interstate Pipeline, L.P.

Description: Trans-Union Interstate Pipeline, L.P. submits First Revised Sheet 111 et al. to FERC Gas Tariff, Original Volume 1, to be effective 8/1/09.

Filed Date: 06/01/2009.

Accession Number: 20090603-0041.

Comment Date: 5 p.m. Eastern Time on Monday, June 15, 2009.

Docket Numbers: RP09-691-000.

Applicants: Freebird Gas Storage, LLC.

Description: Freebird Gas Storage, LLC submits First Revised Sheet 146 et al. to FERC Gas Tariff, First Revised Volume 1 to be effective 8/1/09.

Filed Date: 06/01/2009.

Accession Number: 20090603-0042.

Comment Date: 5 p.m. Eastern Time on Monday, June 15, 2009.

Docket Numbers: RP09-692-000.

Applicants: Transcontinental Gas Pipe Line Corporation.

Description: Transcontinental Gas Pipe Line Corporation submits First Revised Sheet 433 et al. to its FERC Gas Tariff, Fourth Revised Volume 1 to be effective 8/1/09.

Filed Date: 06/01/2009.

Accession Number: 20090603-0037.

Comment Date: 5 p.m. Eastern Time on Monday, June 15, 2009.

Docket Numbers: RP09-693-000.

Applicants: Pine Needle LNG Company, LLC.

Description: Pine Needle LNG Company submits Sixth Revised Sheet 89 et al. to its FERC Gas Tariff, Original Volume 1 effective 8/1/09.

Filed Date: 06/01/2009.

Accession Number: 20090603-0038.

Comment Date: 5 p.m. Eastern Time on Monday, June 15, 2009.

Docket Numbers: RP09-694-000.

Applicants: National Fuel Gas Supply Corporation.

Description: National Fuel Gas Supply Corporation submits Ninth Revised Sheet 457 and Seventh Revised Sheet 458 to FERC Gas Tariff, Fourth Revised Volume 1, to be effective 8/1/09.

Filed Date: 06/01/2009.

Accession Number: 20090603-0148.

Comment Date: 5 p.m. Eastern Time on Monday, June 15, 2009.

Docket Numbers: RP09-695-000.

Applicants: Dauphin Island Gathering Partners.

Description: Dauphin Island Gathering Partners submits Second Revised Sheet 168 et al. to its FERC Gas Tariff, First Revised Volume 1 to be effective 8/1/09.

Filed Date: 06/01/2009.

Accession Number: 20090603-0130.

Comment Date: 5 p.m. Eastern Time on Monday, June 15, 2009.

Docket Numbers: RP09-696-000.

Applicants: Cimarron River Pipeline, LLC.

Description: Cimarron River Pipeline, LLC submits First Revised Sheet 335 et al. to its FERC Gas Tariff, Original Volume 1 to be effective 8/1/09.

Filed Date: 06/01/2009.

Accession Number: 20090603-0129.

Comment Date: 5 p.m. Eastern Time on Monday, June 15, 2009.

Docket Numbers: RP09-697-000.

Applicants: Midcontinent Express Pipeline LLC.

Description: Midcontinent Express Pipeline LLC submits First Revised Sheet No 254 et al. to its FERC Gas Tariff, Original Volume No 1 to be effective 8/1/09.

Filed Date: 06/01/2009.

Accession Number: 20090603-0128.

Comment Date: 5 p.m. Eastern Time on Monday, June 15, 2009.

Docket Numbers: RP09-698-000.

Applicants: Portland General Electric Company.

Description: Portland General Electric Company submits Second Revised Sheet 27 et al. to its FERC Gas Tariff, Original Volume 1 to be effective 8/1/09.

Filed Date: 06/01/2009.

Accession Number: 20090603-0127.

Comment Date: 5 p.m. Eastern Time on Monday, June 15, 2009.

Docket Numbers: RP09-699-000.

Applicants: Trunkline LNG Company, LLC.

Description: Trunkline LNG Company, LLC submits Fourth Revised Sheet 130 to its FERC Gas Tariff, Second Revised Volume 1-A to be effective 8/1/09.

Filed Date: 06/01/2009.

Accession Number: 20090603-0126.

Comment Date: 5 p.m. Eastern Time on Monday, June 15, 2009.

Docket Numbers: RP09-700-000.

Applicants: Trunkline Gas Company, LLC.

Description: Trunkline Gas Company, LLC submits Fourth Revised Sheet No 322 to its FERC Gas Tariff, Third Revised Volume No 1 to be effective 8/1/09.

Filed Date: 06/01/2009.

Accession Number: 20090603-0125.

Comment Date: 5 p.m. Eastern Time on Monday, June 15, 2009.

Docket Numbers: RP09-701-000.

Applicants: Panhandle Eastern Pipe Line Company, LP.

Description: Panhandle Eastern Pipe Line Company, LP submits Fourth Revised Sheet 343 et al. to its FERC Gas Tariff, Third Revised Volume 1 to be effective 8/1/09.

Filed Date: 06/01/2009.

Accession Number: 20090603-0124.

Comment Date: 5 p.m. Eastern Time on Monday, June 15, 2009.

Docket Numbers: RP09-702-000.

Applicants: Williston Basin Interstate Pipeline Company.

Description: Williston Basin Interstate Pipeline Company submits Eleventh Revised Sheet No 371 et al. to its FERC Gas Tariff, Second Revised Volume No 1 to be effective 8/1/09.

Filed Date: 06/01/2009.

Accession Number: 20090603-0123.

Comment Date: 5 p.m. Eastern Time on Monday, June 15, 2009.

Docket Numbers: RP09-703-000.

Applicants: Paiute Pipeline Company.

Description: Paiute Pipeline Company submits Second Revised Sheet 56A et al. to its FERC Gas Tariff, Second Revised Volume 1-A to be effective 8/1/09.

Filed Date: 06/01/2009.

Accession Number: 20090603-0122.

Comment Date: 5 p.m. Eastern Time on Monday, June 15, 2009.

Docket Numbers: RP09-704-000.

Applicants: Destin Pipeline Company, LLC.

Description: Destin Pipeline Company, LLC. submits Fourth Revised Sheet 38A et al. to its FERC Gas Tariff, Original Volume 1 to be effective 8/1/09.

Filed Date: 06/01/2009.

Accession Number: 20090603-0121.

Comment Date: 5 p.m. Eastern Time on Monday, June 15, 2009.

Docket Numbers: RP09-705-000.

Applicants: Sea Robin Pipeline Company, LLC.

Description: Sea Robin Pipeline Company, LLC submits Third Revised Sheet No 194 to its FERC Gas Tariff, Second Revised Volume No 1 to be effective 8/1/09.

Filed Date: 06/01/2009.

Accession Number: 20090603-0120.

Comment Date: 5 p.m. Eastern Time on Monday, June 15, 2009.

Docket Numbers: RP09-706-000.

Applicants: Southeast Supply Header, LLC.

Description: Southeast Supply Header, LLC submits First Revised Sheet No. 342 et al. to FERC Gas Tariff, Original Volume No. 1 to be effective 8/1/09.

Filed Date: 06/01/2009.

Accession Number: 20090603-0119.

Comment Date: 5 p.m. Eastern Time on Monday, June 15, 2009.

Docket Numbers: RP09-707-000.

Applicants: White River Hub, LLC.

Description: White River Hub, LLC submits First Revised Sheet No. 145 to FERC Gas Tariff, Original Volume No. 1 to be effective 8/1/09.

Filed Date: 06/01/2009.

Accession Number: 20090603-0118.

Comment Date: 5 p.m. Eastern Time on Monday, June 15, 2009.

Docket Numbers: RP09-708-000.

Applicants: Questar Pipeline Company.

Description: Questar Pipeline Company submits Thirteenth Revised Sheet No. 99A et al. to FERC Gas Tariff, Original Volume No. 1 to be effective 8/1/09.

Filed Date: 06/01/2009.

Accession Number: 20090603-0117.

Comment Date: 5 p.m. Eastern Time on Monday, June 15, 2009.

Docket Numbers: RP09-709-000.

Applicants: Questar Overthrust Pipeline Company.

Description: Questar Overthrust Pipeline Company submits First Revised Sheet No. 108 to FERC Gas Tariff, Second Revised Volume No. 1 to be effective 8/1/09.

Filed Date: 06/01/2009.

Accession Number: 20090603-0116.

Comment Date: 5 p.m. Eastern Time on Monday, June 15, 2009.

Docket Numbers: RP09-710-000.

Applicants: Clear Creek Storage Company, LLC.

Description: Clear Creek Storage Company, LLC submits Sixth Revised Sheet No. 77 et al., to FERC Gas Tariff, Original Volume No. 1 to be effective 8/1/09.

Filed Date: 06/01/2009.

Accession Number: 20090603-0115.

Comment Date: 5 p.m. Eastern Time on Monday, June 15, 2009.

Docket Numbers: RP09-711-000.

Applicants: Questar Southern Trails Pipeline Company.

Description: Questar Southern Trails Pipeline Co. submits Fourth Revised Sheet No. 101 to FERC Gas Tariff, Original Volume No. 1 to be effective 8/1/09.

Filed Date: 06/01/2009.

Accession Number: 20090603-0114.

Comment Date: 5 p.m. Eastern Time on Monday, June 15, 2009.

Docket Numbers: RP09-712-000.

Applicants: Ozark Gas Transmission, LLC.

Description: Ozark Gas Transmission, LLC submits First Revised Sheet No. 177 to FERC Gas Tariff, First Revised Volume No. 1 to be effective 8/1/09.

Filed Date: 06/01/2009.

Accession Number: 20090603-0113.

Comment Date: 5 p.m. Eastern Time on Monday, June 15, 2009.

Docket Numbers: RP09-713-000.

Applicants: Columbia Gulf Transmission Company.

Description: Columbia Gulf Transmission Co. submits Eleventh Revised Sheet No. 286 et al. to FERC Gas Tariff, Second Revised Volume No. 1 to be effective 8/1/09.

Filed Date: 06/01/2009.

Accession Number: 20090603-0112.

Comment Date: 5 p.m. Eastern Time on Monday, June 15, 2009.

Docket Numbers: RP09-714-000.

Applicants: Crossroads Pipeline Company.

Description: Crossroads Pipeline Co. submits First Revised Sheet No. 380 et al. to FERC Gas Tariff, First Revised Volume No. 1 to be effective 8/1/09.

Filed Date: 06/01/2009.

Accession Number: 20090603-0111.

Comment Date: 5 p.m. Eastern Time on Monday, June 15, 2009.

Docket Numbers: RP09-715-000.

Applicants: Hardy Storage Company, LLC.

Description: Hardy Storage Co., LLC submits First Revised Sheet No. 186 et al. to FERC Gas Tariff, Original Revised Volume No. 1 to be effective 8/1/09.

Filed Date: 06/01/2009.

Accession Number: 20090603-0109.

Comment Date: 5 p.m. Eastern Time on Monday, June 15, 2009.

Docket Numbers: RP09-716-000.

Applicants: Central Kentucky Transmission Company.

Description: Central Kentucky Transmission Company submits First Revised Sheet No. 254 et al., to FERC Gas Tariff, Original Revised Volume No. 1 to be effective 8/1/09.

Filed Date: 06/01/2009.

Accession Number: 20090603-0110.

Comment Date: 5 p.m. Eastern Time on Monday, June 15, 2009.

Docket Numbers: RP09-717-000.

Applicants: Steckman Ridge, LP.

Description: Steckman Ridge, LP submits First Revised Sheet No. 281 et al. to FERC Gas Tariff, Original Volume No. 1 to be effective 8/1/09.

Filed Date: 06/01/2009.

Accession Number: 20090603-0108.

Comment Date: 5 p.m. Eastern Time on Monday, June 15, 2009.

Docket Numbers: RP09-718-000.

Applicants: Egan Hub Storage, LLC.

Description: Egan Hub Storage, LLC submits Fourth Revised Sheet No. 156 et al. to FERC Gas Tariff, First Revised Volume No. 1 to be effective 8/1/09.

Filed Date: 06/01/2009.

Accession Number: 20090603-0107.

Comment Date: 5 p.m. Eastern Time on Monday, June 15, 2009.

Docket Numbers: RP09-719-000.

Applicants: Gulfstream Natural Gas System, LLC.

Description: Gulfstream Natural Gas System, LLC submits Seventh Revised Sheet No. 202 et al. to its FERC Gas Tariff, Original Volume No. 1 to be effective 8/1/09.

Filed Date: 06/01/2009.

Accession Number: 20090603-0104.

Comment Date: 5 p.m. Eastern Time on Monday, June 15, 2009.

Docket Numbers: RP09-720-000.

Applicants: Algonquin Gas Transmission, LLC.

Description: Algonquin Gas Transmission, LLC submits Third Revised Sheet No. 614 et al. to its FERC Gas Tariff, Fifth Revised Volume No. 1 to be effective 8/1/09.

Filed Date: 06/01/2009.

Accession Number: 20090603-0105.

Comment Date: 5 p.m. Eastern Time on Monday, June 15, 2009.

Docket Numbers: RP09-721-000.

Applicants: Texas Eastern Transmission LP.

Description: Texas Eastern Transmission, LP submits Sixth Revised Sheet No. 643 et al. to FERC Gas Tariff, Seventh Revised Volume No. 1 to be effective 8/1/09.

Filed Date: 06/01/2009.

Accession Number: 20090603-0106.

Comment Date: 5 p.m. Eastern Time on Monday, June 15, 2009.

Docket Numbers: RP09-722-000.

Applicants: Empire Pipeline, Inc.

Description: Empire Pipeline, Inc submits First Revised Sheet No. 225 et al. to its FERC Gas Tariff, Original Volume 1 to be effective 8/1/09.

Filed Date: 06/01/2009.

Accession Number: 20090603-0149.

Comment Date: 5 p.m. Eastern Time on Monday, June 15, 2009.

Docket Numbers: RP09-723-000.

Applicants: Kern River Gas Transmission Company.

Description: Kern River Gas Transmission Company submits First Revised Sheet No. 74 et al. to its FERC Gas Tariff, Second Revised Volume 1 to be effective 8/1/09.

Filed Date: 06/01/2009.

Accession Number: 20090603-0150.

Comment Date: 5 p.m. Eastern Time on Monday, June 15, 2009.

Docket Numbers: RP09-724-000.

Applicants: Northern Border Pipeline Company.

Description: Northern Border Pipeline Company submits Eighth Revised Sheet No. 295 et al. to its FERC Gas Tariff, First Revised Volume 1 to be effective 8/1/09.

Filed Date: 06/01/2009.

Accession Number: 20090603-0151.

Comment Date: 5 p.m. Eastern Time on Monday, June 15, 2009.

Docket Numbers: RP09-725-000.

Applicants: B-R Pipeline Company.

Description: B-R Pipeline Company submits Second Revised Sheet 128 in its FERC Gas Tariff Original Volume 1.

Filed Date: 06/01/2009.

Accession Number: 20090603-0152.

Comment Date: 5 p.m. Eastern Time on Monday, June 15, 2009.

Docket Numbers: RP09-726-000.

Applicants: Honeoye Storage Company.

Description: Honeoye Storage Corporation submits First Revised Sheet No. 8 et al. to its FERC Gas Tariff, Original Volume 1A to be effective 8/1/09.

Filed Date: 06/01/2009.

Accession Number: 20090603-0139.

Comment Date: 5 p.m. Eastern Time on Monday, June 15, 2009.

Docket Numbers: RP09-727-000.

Applicants: SG Resources Mississippi, LLC.

Description: SG Resources Mississippi, LLC submits First Revised Sheet 154 et al. to its FERC Gas Tariff, Original Volume 1 to be effective 8/1/09.

Filed Date: 06/01/2009.

Accession Number: 20090603-0140.

Comment Date: 5 p.m. Eastern Time on Monday, June 15, 2009.

Docket Numbers: RP09-728-000.

Applicants: Tres Palacios Gas Storage LLC.

Description: Tres Palacios Gas Storage, LLC submits First Revised Sheet 150 et al. to its FERC Gas Tariff, Original Volume 1 to be effective 8/1/09.

Filed Date: 06/01/2009.

Accession Number: 20090603-0141.

Comment Date: 5 p.m. Eastern Time on Monday, June 15, 2009.

Docket Numbers: RP09-729-000.

Applicants: Tuscarora Gas Transmission Company.

Description: Tuscarora Gas Transmission Company submits Ninth Revised Sheet 37A et al. to its FERC Gas Tariff, Original Volume 1 to be effective 8/1/09.

Filed Date: 06/01/2009.

Accession Number: 20090603-0142.

Comment Date: 5 p.m. Eastern Time on Monday, June 15, 2009.

Docket Numbers: RP09-730-000.

Applicants: Southwest Gas Storage Company.

Description: Southwest Gas Storage Company submits Ninth Revised Sheet 147 to its FERC Gas Tariff, First Revised Volume 1 to be effective 8/1/09.

Filed Date: 06/01/2009.

Accession Number: 20090603-0143.

Comment Date: 5 p.m. Eastern Time on Monday, June 15, 2009.

Docket Numbers: RP09-731-000.

Applicants: Petal Gas Storage LLC.

Description: Petal Gas Storage, LLC. submits Seventh Revised Sheet 7 et al. to its FERC Gas Tariff, Original Volume 1 to be effective 8/1/09.

Filed Date: 06/01/2009.

Accession Number: 20090603-0144.

Comment Date: 5 p.m. Eastern Time on Monday, June 15, 2009.

Docket Numbers: RP09-732-000.

Applicants: High Island Offshore System, LLC.

Description: High Island Offshore System, LLC submits Fifth Revised Sheet 92 et al. to its FERC Gas Tariff, Third Revised Volume 1 to be effective 8/1/09.

Filed Date: 06/01/2009.

Accession Number: 20090603-0145.

Comment Date: 5 p.m. Eastern Time on Monday, June 15, 2009.

Docket Numbers: RP09-734-000.

Applicants: Southern Star Central Gas Pipeline, Inc.

Description: Southern Star Central Gas Pipeline, Inc submits Third Revised Sheet 289 et al. to its FERC Gas Tariff, First Revised Volume 1 to be effective 8/1/09.

Filed Date: 06/01/2009.

Accession Number: 20090603-0147.

Comment Date: 5 p.m. Eastern Time on Monday, June 15, 2009.

Any person desiring to intervene or to protest in any of the above proceedings must file in accordance with Rules 211 and 214 of the Commission's Rules of Practice and Procedure (18 CFR 385.211 and 385.214) on or before 5 p.m. Eastern Time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. E9-13796 Filed 6-11-09; 8:45 am]

BILLING CODE P